DEPARTMENT OF EDUCATION

Clarification of Federal Public Benefits Under the Personal Responsibility and Work Opportunity Reconciliation Act

AGENCY: Office of the Secretary, Department of Education.

ACTION: Interpretive rule.

SUMMARY: The U.S. Department of Education (Department) issues this interpretation to revise and clarify its position on the classification of certain Department programs providing “Federal public benefits,” as defined in Title IV of the Personal Responsibility and Work Opportunity Reconciliation Act of 1996 (PRWORA), Public Law 104-193. The Department concludes that the postsecondary education programs and “other similar benefit” programs described within this interpretive rule, including adult education programs authorized under Title II of the Workforce Innovation and Opportunity Act of 2014, postsecondary career and technical education programs under the Carl D. Perkins Career and Technical Education Act of 2006, and other programs when used to fund postsecondary learning opportunities, provide federally funded forms of assistance that constitute “Federal public benefits” subject to PRWORA's citizenship verification requirements. The interpretation also revokes and supersedes certain aspects of the Department's previously issued Dear Colleague Letter (DCL) of November 19, 1997, which mischaracterized these programs as not affected by PRWORA, for the reasons described further within this notice.

DATES: July 11, 2025.

FOR FURTHER INFORMATION CONTACT: Office of Career, Technical, and Adult Education, U.S. Department of Education, 400 Maryland Avenue SW, Washington, DC 20202. Adam Flynn-Tabloff. Email: adam.flynn-tabloff@ed.gov.

If you use a telecommunications device for the deaf (TDD) or a text telephone (TTY), call the Federal Relay Service (FRS), toll free, at 1-800-877-8339.

SUPPLEMENTARY INFORMATION:

Full Text of Announcement

On February 19, 2025, President Trump issued Executive Order 14218 (Ending Taxpayer Subsidization of Open Borders), directing agencies, among other actions, to ensure that federally funded programs are operating in compliance with PRWORA. For the reasons described herein, the Department has concluded that Federal programs administered by the Department that provide postsecondary education and other similar benefits, including adult education and career and technical education programs, are “Federal public benefits” subject to the citizenship and immigration verification requirements of PRWORA, so long as such benefits are not protected under Plyler v. Doe, 457 U.S. 202 (1982) Plyler as part of a basic public education.

I. Background

Title IV of PRWORA, as enacted into law as Public Law 104-193 on August 22, 1996, and amended by the Balanced Budget Act of 1997 (Pub. L. 105-33), generally limits eligibility for “Federal public benefits” to U.S. citizens, U.S. non-citizen nationals, and certain categories of “qualified aliens.” For programs that provide “Federal public benefit[s],” providers are required to verify eligibility in order to comply with PRWORA. PRWORA defines “qualified alien” to mean “an alien who, at the time the alien applies for, receives, or attempts to receive a Federal public benefit, is—

(1) an alien who is lawfully admitted for permanent residence under the Immigration and Nationality Act [8 U.S.C. 1101 et seq.];

(2) an alien who is granted asylum under section 208 of such Act [8 U.S.C. 1158];

(3) a refugee who is admitted to the United States under section 207 of such Act [8 U.S.C. 1157];

(4) an alien who is paroled into the United States under section 212(d)(5) of such Act [8 U.S.C. 1182(d)(5)] for a period of at least 1 year;

(5) an alien whose deportation is being withheld under section 243(h) of such Act [8 U.S.C. 1253];

(6) an alien who is granted conditional entry pursuant to section 203(a)(7) of such Act [8 U.S.C. 1153(a)(7)] as in effect prior to April 1, 1980;

(7) an alien who is a Cuban and Haitian entrant (as defined in section 501(e) of the Refugee Education Assistance Act of 1980); or

(8) an individual who lawfully resides in the United States in accordance with a Compact of Free Association.” 8 U.S.C. 1641(b).

In other words, “qualified alien” status generally refers to those non-citizens that have a lawful immigration status allowing them to reside in the U.S. indefinitely, as well as immigrants holding specific humanitarian statuses identified by Congress. Under PRWORA, an alien who is not a “qualified alien” is ineligible for payment or assistance of any “Federal public benefit.” 8 U.S.C. 1611. Federal public benefits, as defined in 8 U.S.C. 1611(c)(1)(A), include “any grant, contract, loan, professional license, or commercial license provided by an agency of the United States or by appropriated funds of the United States.” PRWORA further defines Federal public benefits to include “any retirement, welfare, health, disability, public or assisted housing, postsecondary education, food assistance, unemployment benefit, or any other similar benefit for which payments or assistance are provided to an individual, household, or family eligibility unit by an agency of the United States or by appropriated funds of the United States” (emphasis added). 8 U.S.C. 1611(c)(1)(B).

II. Applicability of PRWORA to Department Programs That Provide “Postsecondary Education” and “Other Similar Benefit[s]”

The Department's programs are funded by appropriated funds of the United States and are subject to the restrictions of PRWORA, where such program provides “Federal public benefits” based on the applicable criteria of PRWORA. Specifically, PRWORA applies to “postsecondary education” benefits or “any other similar benefit” under Department programs “for which payments or assistance are provided to an individual, household, or family eligibility unit.” Such benefits are “Federal public benefits” within the meaning of PRWORA, unless an exception applies.

On November 19, 1997, the Department issued a DCL interpreting PRWORA to, among other things, not cover benefits under Departmental programs provided at the preschool, elementary, and secondary education level. U.S. Dept. of Edu., PRWORA DCL, (Nov. 19, 1997). In general, the Department's interpretation in the DCL enabled all aliens, regardless of immigration status and including adults, to be eligible to receive educational benefits and assistance provided by the Department so long as such benefits were not provided at the “postsecondary education” level. The Department's 1997 DCL also reasoned that educational programs provided at the preschool, elementary, and secondary level are not “similar” to the programs that Congress enumerated in PRWORA, including “any retirement, welfare, health, disability, public or assisted housing, postsecondary education, food assistance, unemployment benefit[.]” (emphasis added). The Department specifically claimed that these programs are dissimilar from “postsecondary education” because those programs “are at a completely different level of education.” The Department also asserted that these programs provide “a different form of assistance” than postsecondary education.

The Department finds that the reasoning in the 1997 DCL is flawed because it failed to fully analyze the context and full statutory text of PRWORA, and therefore ultimately misconstrued its meaning. In crafting PRWORA, Congress created an operative definition for “Federal public benefit” under 8 U.S.C. 1611(c), five substantive exceptions under 8 U.S.C. 1611(b)(1)(A)-(E), three rules of non-applicability under 8 U.S.C. 1611(c)(2)(A)-(C), and three rules of statutory construction under 8 U.S.C. 1643 (a)-(c). Each part of this statutory enactment contains interrelated parts, which may provide context when construing one of its parts that may otherwise appear to be ambiguous. See A. Scalia & B. Garner, Reading Law, 167 (2012)(“Context is the primary determinant of meaning. A legal instrument typically contains interrelated parts that make up the whole. The entirety of the document thus provides the context for each of its parts.”); see also United Savings Ass'n v. Timbers of Inwood Forest Associates, 484 U.S. 365, 371 (1988) (a statutory “provision that may seem ambiguous in isolation is often clarified by the remainder of the statutory scheme—because the same terminology is used elsewhere in a context that makes its meaning clear, or because only one of the permissible meanings produces a substantive effect that is compatible with the rest of the law.”)

In the first instance, the Department looks at the operative definition for “Federal public benefit” under 8 U.S.C. 1611(c). In defining the phrase, Congress included enumerated categories of benefits, including “any retirement, welfare, health, disability, public or assisted housing, postsecondary education, food assistance, [or] unemployment benefit,” (emphasis added) followed by a broader unenumerated category of benefits that encompasses any “similar benefit[s] for which payments or assistance are provided to an individual, household, or family eligibility unit.” To ascertain the meaning of the phrase: “similar benefit for which payments or assistance are provided to an individual, household, or family eligibility unit,” and whether an unenumerated benefit would fall under that definition, we must analyze the similarity of other benefits to the enumerated list of benefits already included within the definition of a “Federal public benefit.”

Here, Congress included a broad and disparate group of benefits within the enumerated list of “Federal public benefits.” For example, “food assistance” is a near-term benefit for human subsistence, while retirement benefits are quite different in that they provide for long-term financial stability in old age. The disparate nature of these benefits suggest that Congress intended to capture an expansive array of Federal benefits, within the statutory limit that such benefits be provided through Federal funds, and to “an individual, household, or family eligibility unit.”

In contrast, the Department's analysis in the 1997 DCL did not mention any of the enumerated examples in the statute, except “postsecondary education” when construing whether the benefits discussed in that DCL were “similar.” In doing so, the Department ignored important statutory clues regarding the proper reading of the statute. Instead, the Department's previous analysis inappropriately manipulated the level of generality of the inquiry to focus on the narrow question of whether “postsecondary education” is similar to education at the “preschool, elementary, and secondary level.” This flawed framing led to a flawed result. The conclusion of the 1997 DCL that preschool, elementary, and secondary education are dissimilar from postsecondary education because those programs “are at a completely different level of education” ignores the context of the statute that makes it clear that Congress intended to cover a broader array of other Federal benefits. Indeed, preschool, elementary, and secondary education are similar to postsecondary education in that these benefits provide educational assistance to individuals.

The 1997 DCL also discusses the form in which the benefits are distributed. Specifically, the DCL states that “elementary and secondary `benefits' are typically made available to public educational agencies through grants that help them supplement their educational programs . . . [while] [p]ostsecondary benefits typically involve financial assistance to individual students.” Even if assumed to be true, it would be irrelevant.

The statute discusses the method of delivery required in order to be a “Federal public benefit” and provides that only those benefits “for which payments or assistance are provided to an individual, household, or family eligibility unit” may be construed as a “Federal public benefit.” The statute provides for distinct methods of delivery of benefits to include a “payment” or “assistance.” The word “payment” is derivative of the word “pay,” which means “the act of paying or state of being paid.” See Payment, Webster's II: New Riverside University Dictionary (1994); Pay, Webster's II: New Riverside University Dictionary (1994). In other words, for something to be a “payment,” money must be exchanged.

The term “assistance” is defined as “the act of assisting”, which is derivative of the word “assist” which means “to aid” or “to give aid or support” to someone or something. See Assistance, Webster's II: New Riverside University Dictionary (1994) and Assist, Webster's II: New Riverside University Dictionary (1994). The word “assistance” is indeed broader than “payment” and includes at least some actions that do not involve the direct exchange of money.

To further understand the meaning of the word “assistance” within the context of the statute, it is appropriate to consult other parts of the statutory framework. K Mart Corp. v. Cartier, Inc., 486 U.S. 281, 291 (1988) (“In ascertaining the plain meaning of the statute, the court must look to the particular statutory language at issue, as well as the language and design of the statute as a whole.”). In the list of five substantive exceptions under 8 U.S.C. 1611(b)(1)(A)-(E), we find clues in deciphering any ambiguities in the term “assistance” as applied in this context. In 8 U.S.C. 1611(b)(1)(B) & (D), Congress provided that the prohibition against providing non-qualified aliens with any federal public benefit “shall not apply with respect to the following Federal public benefits:”

“(B)Short-term, non-cash, in-kind emergency disaster relief [. . .]

“(D) Programs, services, or assistance (such as soup kitchens, crisis counseling and intervention, and short-term shelter) specified by the Attorney General, in the Attorney General's sole and unreviewable discretion after consultation with appropriate Federal agencies and departments, which (i) deliver in-kind services at the community level, including through public or private nonprofit agencies; (ii) do not condition the provision of assistance, the amount of assistance provided, or the cost of assistance provided on the individual recipient's income or resources; and (iii) are necessary for the protection of life or safety.”

As the excepted benefits that are enumerated within sub-clause (A) though (E) are specified as otherwise being “Federal public benefits”, it is clear that Congress believed these benefits all would have otherwise met that definition. Therefore, in interpreting whether a program provides “other similar benefit(s)”, it is instructive to look not just to the enumerated benefits within 8 U.S.C. 1611(c)(1), but also to the exempted Federal public benefits under 8 U.S.C. 1611(b)(1). Here, Congress specified under sub-clause (B) and (D) that there are exemptions from the general alien restrictions of 8 U.S.C. 1611 on certain types of non-cash or in-kind benefits.¹ The exception under sub-clause (D) applies more specifically to in-kind benefits that are delivered “at the community level, including through public or private nonprofit agencies.” It would not make sense for Congress to exclude these limited non-cash or in-kind benefits explicitly in 8 U.S.C. 1611(b)(1)(B) & (D) if at least some of those benefits were not already captured under the operative definition of “Federal public benefit” under 8 U.S.C. 1611(c). Congress would have no need to carve something out that would not otherwise be covered in the first instance under the “Federal public benefit” definition. As such, the general definition of “Federal public benefit” is best understood to include “assistance” similar to the “deliver[y] [of] in-kind services at the community level, including through public or private nonprofit agencies” where such benefits have not been specifically excluded by 8 U.S.C. 1611(b)(1).

¹ In-kind is defined as “in the same manner or with something equivalent” Webster's II: New Riverside University Dictionary (1994). In the context of the statute, “in-kind” means some sort of non-cash benefit that provides goods or services directly, rather than providing cash to procure those goods or services.

The DCL essentially ignored Congress's decision to include Federal public benefits delivered through “assistance,” narrowing its analysis not only to Federal public benefits as “payment,” but even further still to whether that assistance was similar to “postsecondary [. . .] financial assistance to individual students.” The rule against surplusage requires us “to avoid rendering superfluous any statutory language.” Hibbs v. Winn, 542 U.S. 88, 101 (2004). Here, the DCL did not give independent meaning to the word “assistance,” improperly rendering it superfluous. Instead, as demonstrated above, Congress clearly contemplated that Federal public benefits could cover assistance provided from entities to “individual[s], household, or family eligibility unit,” even when that assistance is provided through an “in-kind” non-money benefit “at the community level, including through public or private nonprofit agencies.”

Next, we consider one of the three rules of statutory construction that Congress included under 8 U.S.C. 1643(a)(2) which provides that nothing within [Title IV of the Act] may be construed as “addressing alien eligibility for a basic public education as determined by the Supreme Court of the United States under Plyler v. Doe (457 U.S. 202) (1982).” In effect, this provision codifies the holding of that case into the statute. Therefore, when construing PRWORA, the Department's interpretation may not otherwise contravene Plyler.

Plyler's holding was expressly grounded in the Fourteenth Amendment, as applied to States, and the ability of States to impose unique restrictions on alien eligibility absent “some articulable federal policy[.]” There is nothing in Plyler's holding that addresses the ability of the Federal government to deny benefits (be they educational or other) based on alienage, and expressly noted that “[i]n light of our disposition of the Fourteenth Amendment issue, we have no occasion to reach this claim [of pre-emption by federal law and policy].” The inclusion of 8 U.S.C. 1643(a)(2)'s limitation that PRWORA was not intended to “addres[s] alien eligibility for a basic public education” is thus best understood as instructive toward the other provisions of PRWORA that speak to “State authority to make determinations concerning the eligibility of qualified aliens for public benefits”, 8 U.S.C. 1601(7), and the provision of “State or local public benefits” 8 U.S.C. 1621-1625.

A harmonious reading of Plyler, 8 U.S.C. 1643(a)(2), and the ability of Congress to regulate the provision of “Federal public benefits” is thus readily apparent. Scalia & Garner, supra, at 180 (“The imperative of harmony among provisions is more categorical than most other canons of construction because it is invariably true that intelligent drafters do not contradict themselves.”) Indeed, such a harmonious reading is necessary as the text itself of Plyler, incorporating its antecedents, specifically noted that “it is the business of the political branches of the Federal Government, rather than that of either the States or the Federal Judiciary, to regulate the conditions of entry and residence of aliens.” Mathews v. Diaz, 426 U.S. 67, 84 (1976).

Furthermore, Plyler focused on the unique position of children who have “little control” over their immigration status. In Plyler, the Court noted that “it is thus difficult to conceive of a rational justification for penalizing these children for their presence within the United States.” The Court's rationale for protecting the ability of minors to attend school stands in contrast to adults who do have the ability to control their actions and movement. Indeed, the Court noted that the “undocumented status” of adults is not “an absolutely immutable characteristic since it is the product of conscious, indeed unlawful, action.” As such, the Department does not interpret the holding in Plyler as conferring any rights to adults. Nor does the holding in Plyler reach the question as to whether a minor has the right to postsecondary education (such as a 17-year-old individual who may wish to enroll in postsecondary programs, like dual enrollment) or adult training programs that are not included within a “basic public education”.

Therefore, the Department interprets and finds that “Federal public benefits” under 8 U.S.C. 1611(c)(1) includes all educational benefits that are provided to individuals, households, or family eligibility units, regardless of age, and including when benefits are provided as in-kind services at the community level, such as through public or private nonprofit agencies, except those benefits that are basic public education benefits under Plyler. In codifying the exceptions under Plyler, Congress made clear the term “Federal public benefits” does not cover basic public education benefits that are received by children. At the same time, “Federal education benefits” does include postsecondary education benefits provided regardless of age, as Plyler did not address postsecondary benefits and PRWORA explicitly calls for such benefits to be included. 8 U.S.C. 1611(c)(1)(B).

In other words, non-qualified alien adults are not permitted to receive education benefits (postsecondary education benefits or otherwise) and non-qualified alien children are not eligible to receive postsecondary education benefits and certain other education benefits, so long as such benefits are not basic public education benefits. Postsecondary education benefits include dual enrollment and other similar early college programs that provide opportunities to earn college level credits while participating in a secondary education program, because those programs provide individualized payments or assistance beyond that of a basic public education. This interpretation does not apply to specific later in time statutory exceptions, including under 20 U.S.C. 1070e. In sum, this reading of the statute respects the statutory command to adhere to the holding in Plyler, while appropriately capturing the statutory directive to include “other similar benefits” within the meaning of a “Federal public benefit” under PRWORA.

Of note, the 1997 DCL cited the Congressional conference report to PRWORA. The DCL claimed that with respect to section 401 of PRWORA, the conference report said that “the intent of the conferees is that Title I, part A of the Elementary and Secondary Education Act would not be affected by section 401 because the benefit is not provided to an individual household or family eligibility unit.” ² Use of legislative committee reports like this is disfavored because these reports do not go undergo the ordinary legislative process of bicameralism and presentment. In other words, Congress did not vote on the conference report, nor should we assume Members of Congress actually read the report. See, e.g., Blanchard v. Bergeron, 489 U.S. 87, 98-99 (1989) (Scalia, J., concurring) (“As anyone familiar with modern-day drafting of congressional committee reports is well aware, the references to the cases [in the committee report] were inserted, at best by a committee staff member on his or her own initiative, and at worst by a committee staff member at the suggestion of a lawyer-lobbyist . . . What a heady feeling it must be for a young staffer, to know that his or her citation of obscure district court cases can transform them into the law of the land . . .”). As such, the Department declines to consider the non-authoritative conference report from PRWORA when interpreting the statute, as it is unreliable in ascertaining the meaning of the text.

² The Department does not have specific concerns about how the Congressional conference report is referencing Title I of the Elementary and Secondary Education Act, as such programs generally provide support for states in delivering a basic public education, as protected under Plyler. Rather, the Department declines to consider the conference report because it is unreliable in general, and specifically here in how it interprets PRWORA as it relates to the phrase “payments or assistance” under 8 U.S.C. 1611(c)(1)(B).

III. Applicability of PRWORA to Specific Department Programs

As it relates to additional programs under the Department's administration, we interpret PRWORA to apply to benefits provided to individuals under programs authorized under Title II of the Workforce Innovation and Opportunity Act of 2014 (WIOA) and career and technical education (CTE) programs authorized under the Carl D. Perkins Career and Technical Education Act of 2006, as amended (Perkins V), as well as benefits provided through postsecondary education programs.

First, it is clear that these programs are all provided through “appropriated funds of the United States” because the Department receives these funds under appropriations laws passed by Congress. See e.g., FY 2025 Full-Year Continuing Appropriations and Extensions Act, Public Law 119-4, § 1101(a)(8) 139 Stat. 9, 11. Second, whether as an enumerated benefit or “other similar benefit,” these programs provide “payments or assistance” to “an individual, household, or family eligibility unit[.]”

Under WIOA, the Department administers Title II Adult Education and Literacy Activities, which provides grants to States to support adult education and literacy activities. 29 U.S.C. 3291, 3303. State agencies, in turn, may award grants or enter into contracts with eligible providers who provide adult education and literacy services to eligible individuals. An “eligible individual” is an individual who

(A) who has attained 16 years of age;

(B) who is not enrolled or required to be enrolled in secondary school under State law; and

(C) who—

(i) is basic skills deficient;

(ii) does not have a secondary school diploma or its recognized equivalent, and has not achieved an equivalent level of education; or

(iii) is an English language learner.

The Department interprets Title II WIOA programs to provide “Federal public benefits” because these educational programs: (1) are “similar benefits,” within the meaning of 8 U.S.C. 1611(c)(1)(B), because the programs provide educational services to adults and children who lack certain skills or abilities (as discussed in further detail above); (2) are provided on a non-cash and in-kind basis to individuals, and therefore are a form of “assistance [. . .] to an individual” eligibility unit as defined under 8 U.S.C. 1611(c)(1)(B); and (3) are not specifically exempted under PRWORA. As discussed above, the Department interprets PRWORA to apply to adults receiving any form of educational benefits and children receiving educational benefits other than a “basic public education.”

The Department interprets Title II WIOA benefits to be distinct from the provision of a “basic public education” by State and local governments under Plyler because, among other distinctions, these benefits are provided to individuals in addition to the basic public education already provided by States to minors of compulsory attendance age. Under Title II of WIOA, any minor who had aged out of compulsory secondary school attendance would further have to drop out of the basic public education offered by their State in order to be eligible for Title II WIOA benefits. Plyler, in addition to highlighting the compulsory nature of basic public education, did not confer illegal immigrant children aging out of basic public education with the right to drop out of secondary school in favor of alternative educational programs, such as those designed for adults under WIOA. As such, the Title II WIOA programs provide “Federal public benefits” that are distinct from and are not included within a basic public education under Plyler.

Under Perkins V, the Department administers the Basic Grants to States program which is a formula grant for career and technical education to States to support the development and implementation of programs for individuals who are in need of such career and technical education. Congress provided that the purpose of Perkins V, among other things, is to “to develop more fully the academic knowledge and technical and employability skills of secondary education students and postsecondary education students who elect to enroll in career and technical education programs and programs of study.” 20 U.S.C. 2301. Although Perkins V does not explicitly create a test for eligibility, it is clear the educational benefits that flow from these programs are designed to benefit students who are individuals. Indeed, the very definition of “career and technical education” under Perkins V highlights that CTE is always an individual good as it is provided through “a sequence of courses,” “competency-based, work-based, or other applied learning” or “career exploration” that can only be received or experienced by an individual for their personal development. 20 U.S.C. 2302(5). Perkins V benefits flow from the Federal government to states, and then to local recipients, who provide educational assistance to individual students in a non-cash in-kind manner.

Perkins V funds programs for individuals both at the secondary and postsecondary levels. 20 U.S.C. 2301. Students may receive Perkins V benefits while enrolled in secondary school. In contrast to Title II WIOA benefits, Perkins V benefits do not require students to drop out or have aged out of secondary school compulsory attendance in order to receive such benefits and are thus provided as part of a “basic public education” in those limited circumstances. As such, these benefits, when provided to minors in the secondary school setting, are basic public education benefits that are protected under Plyler.

Therefore, the Department interprets Perkins V programs to provide “Federal public benefits” because these educational programs: (1) are “similar benefits,” within the meaning of 8 U.S.C. 1611(c)(1)(B), because the programs provide career and technical educational services to adults and children who lack certain skills or abilities; (2) are provided on a non-cash and in-kind basis to individuals, and therefore are a form of “assistance” as defined under 8 U.S.C. 1611(c)(1)(B); and (3) are not specifically exempted under PRWORA, except that Perkins V programs that support minors in the secondary school setting are basic public education benefits and are not “Federal public benefits.” 8 U.S.C. 1643.³

³ In this interpretive rule, the Department announces how it interprets PRWORA with respect to certain Department programs; however, just because a program is not specifically mentioned herein does not mean the program does not have obligations under PRWORA. The Department may, but is not required to, exercise its enforcement discretion to refrain from taking actions against grantees in certain circumstances, such as for programs not mentioned in this interpretive rule.

IV. Verification

Grantees that may have existing legal obligations under PRWORA may seek to verify eligibility using, among other things: (1) the Department of Homeland Security (DHS) Systematic Alien Verification for Entitlements (SAVE) program; ⁴ (2) review of U.S. birth certificates; (3) review of REAL ID compliant identification cards (ineligible aliens are not able to obtain such IDs); (4) DHS issued documentation verifying immigration status; or (5) other methods to verify eligibility.

⁴ Effective April 1, 2025, the Department of Homeland Security has eliminated the transaction charge for using SAVE for all state, local, tribal, and territorial government agencies. See U.S. Dep't of Homeland Sec., Save Transaction Charges (last accessed June 25, 2025), https://www.uscis.gov/save/about-save/transaction-charges.

In addition, the Department notes that there are existing legal exemptions from verification requirements for nonprofit charitable organizations administering “Federal public benefits”. Nonprofit charitable organizations that administer “Federal public benefits” are not required to conduct eligibility verification under 8 U.S.C. 1642(d). The exemption in 8 U.S.C. 1642(d) is narrowly crafted and does not include other entities administering “Federal public benefits”. Accordingly, the Department does not interpret 8 U.S.C. 1642(d) to relieve states or other governmental entities involved in the administration of “Federal public benefits” from the requirements to ensure that all relevant programs are in compliance with PRWORA (even when some or all educational services are ultimately provided by a nonprofit charitable organization). Grantees may, consistent with 2 CFR 200.413(b)-(c) and 2 CFR 200.405(d), charge direct administrative costs associated with verification as an allocable benefit that can be reasonably documented toward each grant award.

Unless required by Departmental regulations, grantees have no affirmative obligation to report on verification to the Department. Because this interpretative rule is not legislative, the Department lacks the ability to require affirmative reporting.

Interpretive rules cannot have effective dates. Rather, this interpretive rule informs the public of the Department's interpretation of the law. See Guedes v. Bureau of Alcohol, Tobacco, Firearms & Explosives, 920 F.3d 1, 20 (D.C. Cir. 2019) (holding that an interpretive rule cannot have an effective date and is instead an interpretation of how the law should be interpreted, past and present). The Department may, but is not required to, exercise its enforcement discretion to refrain from taking actions against grantees in certain circumstances.

V. Conclusion

This interpretive rule finds that Federal programs administered by the Department that provide postsecondary education and other similar benefits, including adult education and CTE programs, are “Federal public benefits” subject to the citizenship and immigration verification requirements of PRWORA, so long as such benefits are not protected under Plyler as part of a basic public education. This interpretation of adult education and covered CTE programs as providing “Federal public benefits” also includes programs that provide dual enrollment and other similar early college programs that go beyond providing a basic public education to prepare students for credit accumulation, degree attainment, or to enter the workforce. Therefore, entities administrating these programs may consider this interpretation when taking action to comply with PRWORA. This interpretation represents the Department's current position on the issue and may be referenced when enforcing or monitoring grantee and subgrantee compliance with PRWORA.

Accessible Format: On request to the program contact listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Signing Authority

This document of the U.S. Department of Education was signed on July 8, 2025, by Linda E. McMahon, Secretary of Education. That document with the original signature and date is maintained by the U.S. Department of Education. For administrative purposes only, and in compliance with requirements of the Office of the Federal Register, the undersigned has been authorized to sign the document in electronic format for publication, as an official document of the U.S. Department of Education. This administrative process in no way alters the legal effect of this document upon publication in the Federal Register.

Sharon Cooke,
Associate Director, Office of the Executive Secretariat, Office of the Secretary, U.S. Department of Education.

[FR Doc. 2025-12925 Filed 7-10-25; 8:45 am]

BILLING CODE 4000-01-P